ENVIRONMENTAL PROTECTION AGENCY

[EPA-HQ-OW-2008-0719, FRL-8753-1]

Agency Information Collection Activities; Submission to OMB for Review and Approval; Comment Request; National Pollutant Discharge Elimination System (NPDES) Program (Renewal); EPA ICR No. 0229.19; OMB Control No. 2040-0004

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR describes the nature of the information collection and its estimated burden and cost.

DATES: Additional comments may be submitted on or before January 16, 2009.

ADDRESSES: Submit your comments, referencing Docket ID No. EPA-HQ-OW-2008-0719 to (1) EPA online using FDMS (our preferred method), by e-mail to ow-docket@epa.gov, or by mail to: EPA Docket Center, Environmental Protection Agency, Water Docket, Mail Code 28221T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Amelia Letnes, State and Regional Branch, Water Permits Division, OWM Mail Code: 4203M, Environmental Protection Agency, 1200 Pennsylvania Ave., NW., Washington, DC 20460; telephone number: (202) 564-5627; e-mail address: letnes.amelia@epa.gov.

SUPPLEMENTARY INFORMATION: EPA has submitted the following ICR to OMB for review and approval according to the procedures prescribed in 5 CFR 1320.12. On September 29, 2008 (73 FR 56568), EPA sought comments on this ICR pursuant to 5 CFR 1320.8(d). EPA received one comment during the comment period, which is address in the ICR supporting statement. Any additional comments on this ICR should be submitted to EPA and OMB within 30 days of this notice.

EPA has established a public docket for this ICR under Docket ID No. EPA-HQ-OW-2008-0719, which is available for online viewing at http://www.regulations.gov, or in person viewing at the Water Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Water Docket is 202-566-2426.

Use EPA's electronic docket and comment system at http://www.regulations.gov to submit or view public comments, access the index listing of the contents of the docket, and to access those documents in the docket that are available electronically. Once in the system, select “search,” then key in the docket ID number identified in this document. Please note that EPA's policy is that public comments, whether submitted electronically or in paper, will be made available for public viewing at www.regulations.gov as EPA receives them and without change, unless the comment contains copyrighted material, confidential business information (CBI), or other information whose public disclosure is restricted by statute. For further information about the electronic docket, go to www.regulations.gov.

Title: National Pollutant Discharge Elimination System (NPDES) Program (Renewal).

ICR Number: EPA ICR No. 0229.19, OMB Control No. 2040-0004.

ICR Status: This ICR is currently scheduled to expire on December 31, 2008. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The purpose of this ICR is to consolidate, streamline, and update EPA's NPDES-related ICRs into the currently approved ICR for NPDES and Sewage Sludge Monitoring Reports (OMB Control No.: 2040-0004). EPA identified 15 NPDES-related ICRs consisting of program-based (i.e., Pretreatment Program), activity-based (i.e., Applications, Discharge Monitoring Reports [DMRs]), and rule-based (i.e., Cooling Water Intake-Phase II, Stormwater Program Phase II) ICRs. Historically, EPA identified the five activity-based ICRs as representing the base NPDES program. Those ICRs include: (1) Applications ICR (OMB Control No. 2040-0086); (2) DMR ICR (OMB Control No. 2040-0004); (3) Modification/Variance ICR (OMB Control No. 2040-0068); (4) Compliance Assessment/Certification ICR (OMB Control No. 2040-0110); and (5) State Program ICR (OMB Control No. 2040-0057). Several additional ICRs include activities that contain similar activities to those identified in the five base NPDES program ICRs and as such, are being consolidated into this ICR. Those four ICRs include: (1) Stormwater Program Phase II (OMB Control No. 2040-0211); (2) Stormwater discharges associated with construction activities (OMB Control No. 2040-0188); (3) CSO Control Policy (OMB Control No. 2040-0170); and (4) NPDES Great Lakes Water Quality Guidance (OMB Control No. 2040-0180). In addition, the revised ICR accounts for the burden related to EPA's Eligible Commercial and Other Non-recreational Vessels General Permit.

Burden Statement: The annual public reporting and recordkeeping burden for this collection of information is estimated to average 3.2 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Facilities required to have NPDES permit coverage, including but not limited to publicly owned treatment works (POTWs), privately owned treatment works (PrOTWs), manufacturing and commercial dischargers, mining operation, Concentrated Animal Feeding Operations (CAFOs), stormwater dischargers, and vessels.

Estimated Number of Respondents: 565,432 (564,814 facilities and 618 States/Tribes/Territories).

Frequency of Response: Once, every five years, annually, semi-annually, quarterly, bimonthly, monthly, biweekly, weekly, daily, ongoing, occasionally/as needed.

Estimated Total Annual Hour Burden: 30,943,308 hours.

Estimated Total Annual Cost: $1,403,683,489, includes $211,074 annualized capital costs and $18,397,153 annualized O&M costs.

Changes in the Estimates: There is an increase of 16,749,765 hours in this ICR, reflecting the consolidation of eight additional ICRs. In addition, the revised ICR accounts for the burden related to EPA's Eligible Commercial and Other Non-recreational Vessels General Permit. The current burden approved by OMB for the ICRs being consolidated is 31,342,736 hours. This consolidated ICR estimates a total burden that is 399,428 hours less than the currently approved burden for the same nine NPDES ICRs. This decrease in burden corresponds to 1.3 percent of the overall burden. The main overarching reason for the change in burden is EPA's continuous effort to improve the quality of data in its PCS, ICIS-NPDES, and stormwater databases. This change reflects more accurate data rather than a significant change in the number of permits actually administered. Some specific changes with significant impact on the overall result are: (1) Previous NPDES Modification and Variance Requests ICR (OMB Control No. 2040-0068) did not account for the burden related to standard permit conditions to all types of permittees. EPA is now correcting this and assuming that all permittees have the potential to incur time to report planned facility changes, anticipated noncompliances, facility and permit transfers, and inaccurate previous information. (2) In the previous Applications for the NPDES Discharge Permits and the Sewage Sludge Management Permits ICR (OMB Control No. 2040-0086), EPA assumed that the burden for Phase I MS4s to renew their permits was the same as the burden estimated for a first time permit application. As specified in EPA's Interpretive Policy Memorandum (61 FR 41698), Phase I MS4s may use the fourth year annual report, which emphasizes changes to the stormwater management program, with the additional required basic information, as the MS4 permit reapplication. EPA has adjusted the burden assumptions, which significantly reduces the burden for permittees and states resulting from permit reapplication for Phase I MS4s.

Dated: December 11, 2008.
Joseph A. Sierra,
Acting Director, Collection Strategies Division.

[FR Doc. E8-29964 Filed 12-16-08; 8:45 am]

BILLING CODE 6560-50-P